DEPARTMENT OF ENERGY

Federal Energy Regulatory Commission

[Docket No. RP00-233-001]

Midwestern Gas Pipeline Transmission; Notice of Compliance Filing

May 12, 2000.

Take notice on May 9, 2000, Midwestern Gas Transmission Company (Midwestern), tendered for filing as part of its FERC Gas Tariff, Second Revised Volume No. 1, the revised tariff sheets identified below, with an effective date of May 1, 2000:

Substitute Fourth Revised Sheet No. 90

Substitute Second Revised Sheet No. 98

Substitute Second Revised Sheet No. 99

Substitute Third Revised Sheet No. 100

Substitute First Revised Sheet No. 101

Seventh Revised Sheet No. 110A

Midwestern states that this filing is in compliance with the Commission's April 26, 2000 Order Accepting Tariff Sheets Subject to Conditions in the above-referenced docket (April 26 Order). Midwestern Gas Transmission Company, 91 FERC ¶ 61,099 (2000).

Midwestern further states that the April 26 Order required Midwestern to file revised tariff language that would (1) Correct the Gas Industry Standards Board version reference in its tariff; and (2) specify the requirements of the waiver set forth in 18 CFR 284.8(i) of the Commission's regulations. Midwestern requests an effective date of May 1, 2000.

Any person desiring to protest this filing should file a protest with the Federal Energy Regulatory Commission, 888 First Street, NE, Washington, DC 20426, in accordance with section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-12473 Filed 5-17-00; 8:45 am]

BILLING CODE 6717-01-M